DEPARTMENT OF COMMERCE

Foreign-Trade Zones Board

[Order No. 1672]

Expansion of Foreign-Trade Zone 75, Phoenix, Arizona

Pursuant to its authority under the Foreign-Trade Zones Act of June 18, 1934, as amended (19 U.S.C. 81a-81u), the Foreign-Trade Zones Board (the Board) adopts the following Order:

Whereas, the City of Phoenix, grantee of Foreign-Trade Zone 75, submitted an application to the Board for authority to expand its zone to include the jet-fuel storage and distribution system at and adjacent to the Phoenix Sky Harbor International Airport (Site 5) in Phoenix, Arizona, within the Phoenix Customs and Border Protection port of entry (FTZ Docket 17-2009, filed 4/23/09);

Whereas, notice inviting public comment was given in the Federal Register (74 FR 19935-19936, 4/30/09) and the application has been processed pursuant to the FTZ Act and the Board's regulations; and,

Whereas, the Board adopts the findings and recommendations of the examiner's report, and finds that the requirements of the FTZ Act and Board's regulations are satisfied, and that the proposal is in the public interest;

Now, therefore, the Board hereby orders:

The application to expand FTZ 75 is approved, subject to the FTZ Act and the Board's regulations, including Section 400.28.

Signed at Washington, DC, this 23rd day of March 2010.

Ronald K. Lorentzen,
Deputy Assistant Secretary for Import Administration, Alternate Chairman, Foreign-Trade Zones Board.
Attest:
Andrew McGilvray,
Executive Secretary.

[FR Doc. 2010-7517 Filed 4-1-10; 8:45 am]

BILLING CODE 3510-DS-S